DEPARTMENT OF HOUSING AND URBAN DEVELOPMENT

[Docket No. FR-5130-N-28]

Privacy Act of 1974; Notification of the Intent To Establish a New Privacy Act System of Records, Personal Services Cost Subsystem (PSCS, A75I)

AGENCY: Office of the Chief Information Officer, HUD.

ACTION: Notification of the Intent to Establish a New Privacy Act System of Records.

SUMMARY: HUD proposes to establish a new record system to add to its inventory of systems of records subject to the Privacy Act of 1974 (5 U.S.C. 552a), as amended. The purpose of the proposed new system of records, identified as Personal Services Cost Subsystem (PSCS, A75I), is to obtain payroll costs for the Department from the National Finance Center (NFC).

DATES: Effective Date: This action will be effective without further notice on November 5, 2008 unless comments are received that would result in a contrary determination.

Comments Due Date: November 5, 2008.

ADDRESSES: Interested persons are invited to submit comments regarding this new system of records to the Rules Docket Clerk, Office of General Counsel, Department of Housing and Urban Development, 451 Seventh Street, SW., Room 10276, Washington, DC 20410-0500. Communications should refer to the above docket number and title. Facsimile (FAX) comments are not acceptable. A copy of each communication submitted will be available for public inspection and copying between 8 a.m. and 5 p.m. weekdays at the above address.

FOR FURTHER INFORMATION CONTACT: Donna Robinson-Staton, Departmental Privacy Act Officer, Office of the Chief Information Officer, Department of Housing and Urban Development, 451 Seventh Street, SW., Room 2256, Washington DC 20410, telephone number (202) 402-8073 or Gail B. Dise, Assistant Chief Financial Office for Systems, Office of the Chief Financial Officer, Department of Housing and Urban Development, 451 Seventh Street, SW., Room 3100, Washington, DC 20410, Telephone Number (202) 708-1757. (These are not toll free numbers.) A telecommunication device for hearing- and speech-impaired individuals (TTY) is available at 1-800-877-8339 (Federal Information Relay Service).

SUPPLEMENTARY INFORMATION: Title 5 U.S.C. 552a(e)(4) and (11) provide that the public be afforded a 30-day period in which to comment on the new record system.

The new system report, as required by 5 U.S.C. 552a(r)of the Privacy Act was submitted to the Committee on Government Affairs of the United States Senate, the Committee on Government Reform and Oversight of the House of Representatives, and the Office of Management and Budget (OMB) pursuant to paragraph 4c of Appendix I to OMB Circular No. A-130, Federal Agency Responsibilities for Maintaining Records about Individuals, dated June 25, 1993 (58 FR 36075, July 2, 1993).

Authority: 5 U.S.C. 552a, 88 Stat. 1896; 42 U.S.C. 3535(d).

Dated: September 23, 2008.
Lisa Schlosser,
Chief Information Officer.

HUD/CFO-05

NAME:

Personal Services Cost Subsystem (PSCS, A75I).

SYSTEM LOCATION:

HUD Headquarters in Washington DC.

CATEGORIES OF INDIVIDUALS COVERED BY THE SYSTEM:

HUD employees.

CATEGORIES OF RECORDS IN THE SYSTEM:

Social Security Numbers (SSNs), Employee Names, Banking Information (bank routing and deposit account number), Employee Payroll Costs.

AUTHORITY FOR MAINTENANCE OF THE SYSTEM:

Sec. 113 of the Budget and Accounting Act of 1950 31 U.S.C. 66a. (Pub. L. 81-784).

PURPOSE(s):

The purpose of the system of records is to obtain payroll cost from NFC. Additionally, PSCS sends the payroll costs to HUDCAPS for accounting of the payroll. PSCS is necessary since it sends HUD's payroll costs to HUDCAPS and impacts HUD's financial reporting to the Office of Management and Budget (OMB). There is no public access to this system. This is for internal use only. Additionally, PSCS converts the NFC code to HUD organizational codes then transits the converted codes and payroll costs to HUD's Central Accounting and Program System (HUDCAPS) for accounting of the payroll. The system has 2 users with READ ONLY privileges.

ROUTINE USES OF RECORDS MAINTAINED IN THE SYSTEM:

Including categories of users and the purposes of such uses: In addition to those disclosures generally permitted under 5 U.S.C. 552a(b) of the Privacy Act, other routine uses are as follows: To HUDCAPS to record accounting of payroll cost.

POLICIES AND PRACTICES FOR STORING; RETRIEVING, ACCESSING, RETAINING, AND DISPOSING OF RECORDS IN THE SYSTEM:

STORAGE:

Hard copy documents are stored in the secure cabinets; electronic files are stored on servers.

RETRIEVABILITY:

By Social Security Number; name.

SAFEGUARDS EMPLOYED INCLUDES:

Background screening, limited authorizations and access, security guards; computer records are maintained in secure areas with access limited to authorized personnel and technical restraints employed with regard to accessing the records; access to automated systems by authorized users by passwords.

RETENTION AND DISPOSAL:

Are in accordance with GSA schedules of retention and disposal. HUD Handbook 2225.6 Records Disposition Schedule Appendix 65, HUD Handbook 2228.1 Records Disposition Schedule Management Chapter 9, and HUD Handbook 2228.2 General Records Schedule

SYSTEM MANAGER(s) AND ADDRESS:

Gail B. Dise, Assistant Chief Financial Office for Systems, Office of the Chief Financial Officer, Department of Housing and Urban Development, 451 Seventh Street, SW., Room 3100, Washington, DC 20410, Telephone Number (202) 708-1757.

NOTIFICATION PROCEDURE:

For information assistance, or inquiry about existence of records, contact the Departmental Privacy Act Officer, Department of Housing and Urban Development, 451 Seventh Street, SW., Room 2256, Washington, DC 20410 in accordance with the procedures in 24 CFR part 16.

RECORD ACCESS PROCEDURES:

The Department's rules for providing access to records to the individual concerned appear in 24 CFR part 16. If additional information or assistance is required, contact the Departmental Privacy Act Officer, Department of Housing and Urban Development, 451 Seventh Street, SW., Room 2256, Washington, DC 20410.

CONTESTING RECORD PROCEDURES:

Procedures for the amendment or correction of records and for applicants wanting to appeal initial agency determination appear in 24 CFR part 16. If additional information is needed, contact:

(i) In relation to contesting contents of records, the Departmental Privacy Act Officer at HUD, 451 Seventh Street, SW., Room 2256, Washington, DC 20410; and

(ii) In relation to appeals of initial denials, HUD, Departmental Privacy Appeals Officer, Office of General Counsel, 451 Seventh Street, SW., Washington, DC 20410.

RECORD SOURCE CATEGORIES:

Subject individuals; other individuals; financial institutions, private corporations or firms doing business with HUD; Federal agencies; HUD personnel.

EXEMPTIONS FROM CERTAIN PROVISIONS OF THE ACT:

None.

[FR Doc. E8-23471 Filed 10-3-08; 8:45 am]

BILLING CODE 4210-67-P